DEPARTMENT OF TRANSPORTATION

Federal Aviation Administration

14 CFR Part 39

[Docket No. FAA-2009-1076; Directorate Identifier 2009-CE-019-AD]

RIN 2120-AA64

Airworthiness Directives; Mitsubishi Heavy Industries, Ltd. Various Model MU-2B Airplanes

AGENCY: Federal Aviation Administration (FAA), Department of Transportation (DOT).

ACTION: Notice of proposed rulemaking (NPRM).

SUMMARY: We propose to supersede Airworthiness Directive (AD) 2006-17-01, AD 2006-15-07, AD 2000-02-25, and AD 97-25-02, which apply to certain Mitsubishi Heavy Industries, Ltd. (MHI) various Model MU-2B airplanes. An FAA-led MU-2B safety evaluation resulted in the standardization of the MU-2B specific training and the FAA-accepted pilot operating checklists through a special federal aviation regulation (SFAR). MHI revised the airplane flight manuals (AFMs) to align them with the information in that training and the checklists. In addition, incorporating all AFM revisions up to and including this latest AFM revision will incorporate all AFM compliance actions required by the four above-mentioned ADs. This proposed AD would retain from AD 2006-17-01 the inspection of the engine torque indication system and possible recalibration of the torque pressure transducers and would require incorporating all revisions up to and including the latest revisions of the AFM. We are proposing this AD to correct inconsistencies in critical operating procedures between the MU-2B specific training, the FAA-accepted pilot operating checklists, and the AFMs. This condition, if not corrected, could result in operators using FAA-accepted pilot operating checklists that differ from the AFM in certain critical operating procedures, which could result in failure to properly operate the airplane. This failure could lead to loss of control.

DATES: We must receive comments on this proposed AD by December 31, 2009.

ADDRESSES: Use one of the following addresses to comment on this proposed AD:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

• For service information identified in this proposed AD, contact Mitsubishi Heavy Industries America, Inc., 4951 Airport Parkway, Suite 800; Addison, Texas 75001; telephone: (972) 934-5480; fax: (972) 934-5488; Internet: http://www.mu-2aircraft.com or http://www.turbineair.com.

FOR FURTHER INFORMATION CONTACT: Al Wilson, Flight Test Pilot, FAA, Fort Worth Airplane Certification Office (ACO), 2601 Meacham Blvd., Fort Worth, Texas 76137; telephone: (817) 222-5146; fax: (817) 222-5960.

SUPPLEMENTARY INFORMATION:

Comments Invited

We invite you to send any written relevant data, views, or arguments regarding this proposed AD. Send your comments to an address listed under the ADDRESSES section. Include the docket number, “FAA-2009-1076; Directorate Identifier 2009-CE-019-AD” at the beginning of your comments. We specifically invite comments on the overall regulatory, economic, environmental, and energy aspects of the proposed AD. We will consider all comments received by the closing date and may amend the proposed AD in light of those comments.

We will post all comments we receive, without change, to http://www.regulations.gov, including any personal information you provide. We will also post a report summarizing each substantive verbal contact we receive concerning this proposed AD.

Discussion

This proposed AD results from inconsistencies in critical operating procedures between the MU-2B specific training, the FAA-accepted pilot operating checklists, and the AFMs. In 2005, the FAA, Aircraft Certification and Flight Standards Service, conducted an MU-2B safety evaluation. The FAA found that MU-2B specific training was not required for all operators and, when provided, was not standardized. The safety evaluation also revealed that many FAA-accepted pilot operating checklists used by operators and trainers had no regulatory basis and were locally produced, lacking standardization for normal, abnormal, and emergency flight operations.

In 2008, the FAA issued SFAR No. 108, Mitsubishi MU-2B Series Airplane Special Training, Experience, and Operating Requirements. The SFAR requires standardization for critical operating procedures in training and in the FAA-accepted pilot operating checklists. MHI revised the AFMs to align them with the information in the current SFAR. The FAA requested Mitsubishi Heavy Industries, Ltd. make changes to the AFM for each model approved under Type Certificate Data Sheets (TCDS) A10SW and A2PC.

Incorporating all AFM revisions up to and including this latest AFM revision will incorporate the AFM actions in other ADs, as follows:

• AD 97-25-02, Amendment 39-10225 (62 FR 63830, December 3, 1997), requires revising the Limitations section of the airplane AFM to prohibit positioning the power levers below the flight idle stop while the airplane is in flight.

• AD 2000-02-25, Amendment 39-11543 (65 FR 5422, February 4, 2000), requires revising the AFM to include requirements for activating the airframe pneumatic deicing boots.

• AD 2006-15-07, Amendment 39-14687 (71 FR 41116, July 20, 2006), requires revising the Limitations section of the AFM to prevent improper rigging of the propeller feathering linkage.

• AD 2006-17-01, Amendment 39-14722 (71 FR 47697, August 18, 2006), requires inspecting the engine torque indication system, recalibrating the torque pressure transducers as required, and revising the Limitations section of the AFM to include power assurance charts. The one-time inspection of and possible recalibration is not part of the AFM revisions.

This condition, if not corrected, could result in operators using FAA-accepted pilot operating checklists that differ from the AFM in certain critical operating procedures, which could result in failure to properly operate the airplane. This failure could lead to loss of control.

FAA's Determination and Requirements of the Proposed AD

We are proposing this AD because we evaluated all information and determined the unsafe condition described previously is likely to exist or develop on other products of the same type design. This proposed AD would supersede AD 97-25-02, AD 2000-02-25, AD 2006-15-07, and AD 2006-17-01 with a new AD that would:

• Require incorporating all revisions up to and including the latest revisions of the AFM; and

• Retain from AD 2006-17-01 the requirement of the engine torque indication system inspection and possible recalibration.

Costs of Compliance

We estimate that this proposed AD would affect 355 airplanes.

We estimate the following costs to accomplish the proposed engine torque indication system inspection, including the recalibration and ground check if needed. This is a retained cost from AD 2006-17-01:

Labor cost | Parts cost | Total cost per airplane | Total cost on U.S. operators
5 work-hours × $80 = $400 | Not applicable | $400 | $142,000

We estimate the following costs to do the proposed AFM revisions:

Labor cost | Parts cost | Total cost per airplane | Total cost on U.S. operators
1 work-hour × $80 per hour = $80 | Not applicable | $80 | $28,400

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

Examining the AD Docket

You may examine the AD docket that contains the proposed AD, the regulatory evaluation, any comments received, and other information on the Internet at http://www.regulations.gov; or in person at the Docket Management Facility between 9 a.m. and 5 p.m., Monday through Friday, except Federal holidays. The Docket Office (telephone (800) 647-5527) is located at the street address stated in the ADDRESSES section. Comments will be available in the AD docket shortly after receipt.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 97-25-02, Amendment 39-10225 (62 FR 63830, December 3, 1997); AD 2000-02-25, Amendment 39-11543 (65 FR 5422, February 4, 2000); AD 2006-15-07, Amendment 39-14687 (71 FR 41116, July 20, 2006); and AD 2006-17-01, Amendment 39-14722 (71 FR 47697, August 18, 2006), and adding the following new AD:

Mitsubishi Heavy Industries, Ltd.: Docket No. FAA-2009-1076; Directorate Identifier 2009-CE-019-AD.

Comments Due Date

(a) We must receive comments on this airworthiness directive (AD) action by December 31, 2009.

Affected ADs

(b) This AD supersedes AD 97-25-02, Amendment 39-10225; AD 2000-02-25, Amendment 39-11543; AD 2006-15-07, Amendment 39-14687; and AD 2006-17-01, Amendment 39-14722.

Applicability

(c) This AD applies to the following airplane models and serial numbers that are certificated in any category:

(1) Mitsubishi airplanes listed in Type Certificate Data Sheet (TCDS) A10SW:

Models | Serial Nos.
MU-2B-25, MU-2B-26, MU-2B-26A, MU-2B-35, MU-2B-36, MU-2B-36A, MU-2B-40, MU-2B-60 | All serial numbers.

(2) Mitsubishi airplanes listed in TCDS A2PC:

Models | Serial Nos.
MU-2B, MU-2B-10, MU-2B-15, MU-2B-20, MU-2B-25, MU-2B-26, MU-2B-30, MU-2B-35, MU-2B-36 | All serial numbers.

Unsafe Condition

(d) This AD results from inconsistencies in critical operating procedures between the MU-2B specific training, the FAA-accepted pilot operating checklists, and the airplane flight manuals (AFM). MHI revised the airplane flight manuals (AFMs) to align them with the information in that training and the checklists. We are proposing this AD to correct the inconsistencies described above. This condition, if not corrected, could result in operators using FAA-accepted pilot operating checklists that differ from the AFM in certain critical operating procedures, which could result in failure to properly operate the airplane. This failure could lead to loss of control.

Compliance

(e) Do the following unless already done:

(1) Within 100 hours time-in-service (TIS) after September 22, 2006 (the effective date retained from AD 2006-17-01), inspect the engine torque indication system and, before further flight after the inspection, recalibrate the torque pressure transducers as required. For airplanes listed in TCDS A2PC, follow Mitsubishi Heavy Industries, Ltd. (MHI) MU-2 Service Bulletin No. 233A, dated January 14, 1999. For airplanes listed in TCDS A10SW, follow MHI MU-2 Service Bulletin No. 095/77-002, dated July 15, 1998. This inspection requires the use of the power assurance charts referenced in Table 1 below:

Table 1—Power Assurance Chart From AD 2006-17-01
Airplane model affected | Date and version of AFM | Page number from AFM
MU-2B | AFM, Section 6, Revision 9, dated January 14, 1999 | 6-34.
MU-2B-10 | AFM, Section 6, Revision 9, dated January 14, 1999 | 6-19.
MU-2B-15 | AFM, Section 6, Revision 9, dated January 14, 1999 | 6-19.
MU-2B-20 | AFM, Section 6, Revision 9, dated January 14, 1999 | 6-20.
MU-2B-25 | AFM, Section 6, Reissued March 25, 1986; and | 6-18 and 6-19.
| AFM, Section 6, Revision 9, dated January 14, 1999 | 6-19.
MU-2B-26 | AFM, Section 6, Reissued March 25, 1986; and | 6-17 and 6-18.
| AFM, Section 6, Revision 9, dated January 14, 1999 | 6-19.
MU-2B-26A | AFM, Section 6, Reissued March 25, 1986 | 6-17 and 6-18.
MU-2B-30 | AFM, Section 6, Revision 10, dated January 14, 1999 | 6-19.
MU-2B-35 | AFM, Section 6, Reissued March 25, 1986; and | 6-18 and 6-19.
| AFM, Section 6, Revision 9, dated January 14, 1999 | 6-19.
MU-2B-36 | AFM, Section 6, Revision 9, dated January 14, 1999 | 6-20.
MU-2B-36A | AFM, Section 6, Reissued February 28, 1986 | 6-20 and 6-21.
MU-2B-40 | AFM, Section 6, Reissued March 25, 1986 | 6-17 and 6-18.
MU-2B-60 | AFM, Section 6, Reissued September 24, 1985 | 6-19 and 6-20.

(2) Within the next 50 hours TIS after the effective date of this AD or within the next 6 months after the effective date of this AD, whichever occurs first, incorporate all revisions up to and including the latest revisions as published in the list of effective pages of the applicable AFM listed in Table 2 and Table 3. Assure that the applicable AFM contains each page, matching all the page numbers and page dates, listed in the Effective Pages listing for that AFM:

Table 2—TCDS A10SW
Airplane model | AFM name | Effective pages list
MU-2B-25 | MU-2B-25 Airplane Flight Manual K Model, Document Number MR-0156-1 | all revised pages up to and including revision 11, dated March 10, 2009, as listed on page 1 and page 2 of the “Effective Pages” in the AFM.
MU-2B-26 | MU-2B-26 Airplane Flight Manual M Model, Document Number MR-0160-1 | all revised pages up to and including revision 11, dated March 10, 2009, as listed on page 1 and page 2 of the “Effective Pages” in the AFM.
MU-2B-26A | MU-2B-26A Airplane Flight Manual P Model, Document Number MR-0194-1 | all revised pages up to and including revision 13, dated March 10, 2009, as listed on page 1 and page 2 of the “Effective Pages” in the AFM.
MU-2B-35 | Not Available | Contact the type certificate holder for the latest revision of the FAA-approved AFM.
MU-2B-36 | Not Available | Contact the type certificate holder for the latest revision of the FAA-approved AFM.
MU-2B-36A | MU-2B-36A Airplane Flight Manual N Model, Document Number MR-0196-1 | all revised pages up to and including revision 15, dated March 10, 2009, as listed on page 1 and page 2 of the “Effective Pages” in the AFM.
MU-2B-40 | MU-2B-40 Airplane Flight Manual SOLITAIRE Model, Document Number MR-0271-1 | all revised pages up to and including revision 13, dated March 10, 2009, as listed on page 1 and page 2 of the “Effective Pages” in the AFM.
MU-2B-60 | MU-2B-60 Airplane Flight Manual MARQUISE Model, Document Number MR-0273-1 | all revised pages up to and including revision 15, dated March 10, 2009, as listed on page 1 and page 2 of the “Effective Pages” in the AFM.

Note: The AFM revisions are not available for Models MU-2B-35 and MU-2B-36 under TCDS A10SW because the only Model MU-2B-35 airplane was destroyed and subsequently removed from the registry. The only Model MU-2B-36 airplane manufactured was converted to a Model MU-2B-36A. Mitsubishi Heavy Industries, Ltd. has indicated they have no intention of putting either model back in production. There are no other serial numbers eligible for either model, foreign or domestic. These models are still eligible under the type certificate, so if Mitsubishi Heavy Industries, Ltd. does put either model back in production, contact them for an FAA-approved AFM.

Table 3—TCDS A2PC
Airplane model | AFM name | Effective pages list
MU-2B | MU-2B Airplane Flight Manual, YET 67026A | all revised pages up to and including revision 13, dated November 29, 2007, as listed on page 1 and page 2 of the “Effective Pages” in the AFM.
MU-2B-10 | MU-2B-10 Airplane Flight Manual, YET 86400 | all revised pages up to and including revision 13, dated November 29, 2007, as listed on page 1 and page 2 of the “Effective Pages” in the AFM.
MU-2B-15 | MU-2B-15 Airplane Flight Manual, YET 68038A | all revised pages up to and including revision 13, dated November 29, 2007, as listed on page 1 and page 2 of the “Effective Pages” in the AFM.
MU-2B-20 | MU-2B-20 Airplane Flight Manual, YET 68034A | all revised pages up to and including revision 13, dated November 29, 2007, as listed on page 1 and page 2 of the “Effective Pages” in the AFM.
MU-2B-25 | MU-2B-25 Airplane Flight Manual, YET 71367A | all revised pages up to and including revision 13, dated November 29, 2007, as listed on page 1 and page 2 of the “Effective Pages” in the AFM.
MU-2B-26 | MU-2B-26 Airplane Flight Manual, YET 74129A | all revised pages up to and including revision 13, dated November 29, 2007, as listed on page 1 and page 2 of the “Effective Pages” in the AFM.
MU-2B-30 | MU-2B-30 Airplane Flight Manual, YET 69013A | all revised pages up to and including revision 14, dated November 29, 2007, as listed on page 1 and page 2 of the “Effective Pages” in the AFM.
MU-2B-35 | MU-2B-35 Airplane Flight Manual, YET 70186A | all revised pages up to and including revision 14, dated November 29, 2007, as listed on page 1 and page 2 of the “Effective Pages” in the AFM.
MU-2B-36 | MU-2B-36 Airplane Flight Manual, YET 74122A | all revised pages up to and including revision 13, dated November 29, 2007, as listed on page 1 and page 2 of the “Effective Pages” in the AFM.

Alternative Methods of Compliance (AMOCs)

(f) The Manager, FAA, Fort Worth Airplane Certification Office (ACO), has the authority to approve AMOCs for this AD, if requested using the procedures found in 14 CFR 39.19. Send information to ATTN: Al Wilson, Flight Test Pilot, FAA, Fort Worth ACO, 2601 Meacham Blvd., Fort Worth, Texas 76137; telephone: (817) 222-5146; fax: (817) 222-5960. Before using any approved AMOC on any airplane to which the AMOC applies, notify your appropriate principal inspector (PI) in the FAA Flight Standards District Office (FSDO), or lacking a PI, your local FSDO.

Related Information

(g) To get copies of the AFM revisions referenced in this AD, contact Mitsubishi Heavy Industries America, Inc., 4951 Airport Parkway, Suite 800, Addison, Texas 75001; telephone: (972) 934-5480; fax: (972) 934-5488; Internet: http://www.mu-2aircraft.com or http://www.turbineair.com. To view the AD docket, go to U.S. Department of Transportation, Docket Operations, M-30, West Building Ground Floor, Room W12-140, 1200 New Jersey Avenue, SE., Washington, DC 20590, or on the Internet at http://www.regulations.gov.

Issued in Kansas City, Missouri, on November 9, 2009.
Kim Smith,
Manager, Small Airplane Directorate, Aircraft Certification Service.

[FR Doc. E9-27389 Filed 11-13-09; 8:45 am]

BILLING CODE 4910-13-P